ENVIRONMENTAL PROTECTION AGENCY

[FRL-6894-4]

Agency Information Collection Activities: Proposed Collection; Comment Request; U.S. Exports and Imports of Hazardous Wastes RCRA ICR No. 1647.02

AGENCY: Environmental Protection Agency (EPA).

ACTION: Notice.

SUMMARY: In compliance with the Paperwork Reduction Act (44 U.S.C. 3501 et seq.), this document announces that EPA is planning to submit the following proposed and continuing Information Collection Request (ICR) to the Office of Management and Budget (OMB): U.S. Exports and Imports of Hazardous Wastes, EPA Docket Number: F-2000-IEIP-FFFFF. ICR Number: 1647.02. Before submitting the ICR to OMB for review and approval, EPA is soliciting comments on specific aspects of the proposed information collection as described below.

DATES: Comments must be submitted on or before January 2, 2001.

ADDRESSES: Commenters must send an original and two copies of their comments referencing docket number F-2000-IEIP-FFFFF to: (1) If using regular US Postal Service mail: RCRA Docket Information Center, Office of Solid Waste (5305G), U.S. Environmental Protection Agency Headquarters (EPA, HQ), 1200 Pennsylvania Avenue, NW, Washington, DC 20460-0002, or (2) if using special delivery, such as overnight express service: RCRA Docket Information Center (RIC), Crystal Gateway One, 1235 Jefferson Davis Highway, First Floor, Arlington, VA 22202. Comments may also be submitted electronically through the Internet to: rcra-docket@epa.gov. Comments in electronic format should also be identified by the docket number F-2000-IEIP-FFFFF and must be submitted as an ASCII file avoiding the use of special characters and any form of encryption.

Commenters should not submit electronically any confidential business information (CBI). An original and two copies of CBI must be submitted under separate cover to: RCRA CBI Document Control Officer, Office of Solid Waste (5305W), U.S. EPA, 401 M Street, SW, Washington, DC 20460-0002.

Public comments and supporting materials are available for viewing in the RCRA Information Center (RIC), located at Crystal Gateway I, First Floor, 1235 Jefferson Davis Highway, Arlington, VA. The RIC is open from 9 a.m. to 4 p.m., Monday through Friday, excluding federal holidays. To review docket materials, it is recommended that the public make an appointment by calling 703-603-9230. The public may copy a maximum of 100 pages from any regulatory docket at no charge. Additional copies cost $0.15/page.

The ICR is available on the Internet at http://www.epa.gov/epaoswer/hazwaste/exp-imp/icr.htm.

The official record for this action will be kept in paper form. Accordingly, EPA will transfer all comments received electronically into paper form and place them in the official record, which will also include all comments submitted directly in writing. EPA responses to comments, whether the comments are written or electronic, will be in a notice in the Federal Register. EPA will not immediately reply to commenters electronically other than to seek clarification of electronic comments that may be garbled in transmission or during conversion to paper form, as discussed above.

FOR FURTHER INFORMATION CONTACT: For general information, contact the RCRA Hotline at 800-424-9346 or TDD 800-553-7672 (hearing impaired). In the Washington, DC, metropolitan area, call 703-412-9810 or TDD 703-412-3323. For more detailed information on specific aspects of this rulemaking, contact Patricia Whiting, Office of Solid Waste, 5304W, U.S. Environmental Protection Agency, 401 M Street, SW, Washington, DC 20460-0002, at 703-308-8421, Whiting.Patricia@epamail.gov.

SUPPLEMENTARY INFORMATION: Affected entities: Entities potentially affected by this action are those which export hazardous waste from or import hazardous waste to the U.S.

Title: U.S. Exports and Imports of Hazardous Wastes, EPA ICR No. 1647.02. expiring 3/31/01.

Abstract: Authority to promulgate this rule is found in sections 2002(a) and 3017(a)(2) and (f) of the Solid Waste Disposal Act, as amended by the Resource Conservation and Recovery Act, and as amended by the Hazardous and Solid Waste Amendments, 42 U.S.C. 6901 et seq. The Organization for Economic and Cooperative Development (OECD) Decision C(92)39 is considered legally binding on the United States under Articles 5(a) and 6(2) of the OECD Convention, 12 U.S.T. 1728. In addition, the OECD Decision and EPA's rule implementing the OECD Decision, 40 CFR part 262, subpart H (61 FR 16290-16316, April 12, 1996) impose requirements on U.S. exporters and importers of hazardous waste for recovery to and from OECD member countries. EPA also imposes requirements on U.S. exports and imports of hazardous wastes to and from other countries at 40 CFR part 262, subpart E for exports and at subpart F for imports (51 FR 28664, August 8, 1986). The Office of Enforcement and Compliance Assurance, U.S. EPA, uses the information provided by each U.S. exporter and U.S. importer to determine compliance with the applicable RCRA regulatory provisions. In addition, the information will be used to determine the number, origin, destination, and type of exports from and imports to the U.S. for tracking purposes and for reporting to the OECD. This information also will be used to assess the efficiency of the program.

An agency may not conduct or sponsor, and a person is not required to respond to, a collection of information unless it displays a currently valid OMB control number. The OMB control numbers for EPA's regulations are listed in 40 CFR part 9 and 48 CFR Chapter 15. In requesting to continue this information collection, the EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual U.S. exporter burden for this collection is estimated to average 10.23 hours per exporter. The annual U.S. importer burden for this collection is estimated to average 1.3 hours per importer. This amounts to a total annual cost of $441,360 for exporters and $38,582 for importers. These estimates represent the burden associated with the RCRA export and import requirements. Calculation of these estimates is based on the following numbers:

Exporters: 816.

Importers: 746.

Annual Export Shipments: 25,000.

Annual Import Shipments: 2,984.

The number of export notifications is equal to the number of exporters (816) and the number (and frequency per year) of tracking documents corresponds to the number of annual export and import shipments (25,000 and 2,984, respectively). These estimates take into account all aspects of the information collection, including the time necessary for new entrants to obtain and read the regulations and assess their applicability; time to complete a notification of intent to export; time to complete a tracking document and to transmit copies of the tracking document. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 26, 2000.
Matthew Hale,
Acting Director, Office of Solid Waste.

[FR Doc. 00-28016 Filed 10-31-00; 8:45 am]

BILLING CODE 6560-50-P